DEPARTMENT OF VETERANS AFFAIRS

Privacy Act of 1974; System of Records

AGENCY: Department of Veterans Affairs.

ACTION: Notice of amendment to and republication of System of Records.

SUMMARY: As required by the Privacy Act of 1974, 5 U.S.C. 552a(e)(4), notice is hereby given that the Department of Veterans Affairs (VA) proposes to amend the three existing systems of records known as “Veterans and Armed Forces Personnel Programs of Government Life Insurance—VA” (36VA00) as last updated and set forth in the Federal Register at 59 FR 38035 (July 26, 1994); “Veterans, Beneficiaries, and Attorneys United States Government Insurance Award Records—VA” (46VA00) as last updated and set forth in the Federal Register at 50 FR 50033 (December 6, 1985); and “Veterans Mortgage Life Insurance—VA” (53VA00) as last updated and set forth in the Federal Register at 59 FR 10455 (March 4, 1994) into one system of records. When this notice is approved and published in the Federal Register, the three systems of records referenced above will be deleted. This amendment will consolidate the three current systems of records 36VA00, 46VA00, and 53VA00 into one system under the designation of “Veterans and Uniformed Services Personnel Programs of U.S. Government Life Insurance—VA” (36VA29). This amendment includes updates reflecting current terminology, records usage, policies, managing office location, and storage and retrieval technology. We proposed to combine these changes as an amended and consolidated system of records entitled “Veterans and Uniformed Services Personnel Programs of U.S. Government Life Insurance—VA” (36VA29). VA is republishing this system of records in its entirety.

DATES: Comments on routine uses must be received no later than 30 days after date of publication in the Federal Register, on or before November 22, 2010. If no public comment is received during the period allowed for comments, the routine use will become effective November 22, 2010.

ADDRESSES: Written comments may be submitted through http://www.Regulations.gov; by mail or hand-delivery to the Director, Regulations Management (02REG), Department of Veterans Affairs, 810 Vermont Ave., NW., Room 1068, Washington, DC 20420; or by fax to (202) 273-9026. Copies of comments received will be available for public inspection in the Office of Regulation Policy and Management, Room 1063B, between the hours of 8 a.m. and 4:30 p.m., Monday through Friday (except holidays). Please call (202) 461-4902 for an appointment. (This is not a toll-free number.) In addition, during the comment period, comments may be viewed online through the Federal Docket Management System (FDMS) at http://www.Regulations.gov.

FOR FURTHER INFORMATION CONTACT: Monica Keitt, Attorney-Advisor/Privacy Officer, VA Insurance Program Management Staff, Department of Veterans Affairs Regional Office and Insurance Center, 5000 Wissahickon Avenue, Philadelphia, PA 19144, (215) 842-2000, Ext. 2905.

SUPPLEMENTARY INFORMATION: The Department of Veterans Affairs notices for systems of records subject to the Privacy Act of 1974 (5 U.S.C. 552a), as amended, have been published in the Federal Register and are available from the address above.

The VA Insurance Program has reviewed its records notices and determined that its three existing systems of records know as “Veterans and Armed Forces Personnel United States Government Life Insurance Records—VA” (36VA00); “Veterans, Beneficiaries, and Attorneys United States Government Insurance—VA” (46VA00); and “Veterans Mortgage Life Insurance—VA” (53VA00) should be consolidated into one system of records entitled “Veterans and Uniformed Services Personnel Programs of U.S. Government Life Insurance—VA” under a single number of 36VA29. When this notice is approved and published in the Federal Register, the three systems of records referenced above will be deleted and replaced by 36VA29.

This amendment is designed to reflect the VA Insurance Program's role and mission as the primary source of U.S. government life insurance for veterans and members of the uniformed services. The amendment also serves to reflect the evolving technology and current practices of the VA Insurance Program.

The System Location is amended to reflect the various locations of both active and inactive insurance records, including back-up records. Addresses of the various records storage centers is provided in the attached Appendix I of the System of Records Notice (SORN).

The Categories of Individuals covered by the system is modified to provide the individuals covered by the system and the specific chapters under title 38 United States Code (U.S.C.) for each program of insurance under which these individuals are covered.

The Categories of Records in the System was amended to reflect the Insurance Program's current technology, including the following: (a) Use of the Disability Outreach Tracking System (DOTS) which stores the veteran's or uniformed services member's name, address, phone number, and disability status as part of the Insurance Program's benefits outreach service; (b) the VA Insurance Web site self-service portal which tracks activities related to policy changes, which may include the name of the insured, file number, policy number, address, phone number, e-mail address, loan status, including loan amount requested, denied, or pending, date of request for information, loan history, and dividend option changes, and Web site pages accessed; (c) the VA Insurance Web site “Autoform” program provides access for veterans to complete an online application for Service-Disabled Veterans Insurance (S-DVI), which may include the veteran's name, address, Social Security number, date of birth, phone number, medical history, e-mail address, and beneficiary information, such as the beneficiary's name, address, and Social Security number; (d) the “Freedom Enterprise,” which records incoming phone calls received by insurance personnel of the Veterans Insurance Phone Section (VIPS) from veterans, service members, beneficiaries, personal representatives, Members of Congress and their staff members, other interested parties, and stakeholders. (The recordings are maintained for quality assurance and training purposes only.)

The Authority for Maintenance of the System has been amended to reflect current citations for DOTS, the VA programs of government life insurance, and the Privacy Act.

The system of records has been amended by revising the “Purpose(s)” section. The Purpose(s) section explains the mission and purpose of the VA Insurance Program. (Legal authorities for the routine uses have been updated and are listed with the routine use in the System of Records Notice (SORN) where appropriate for reference.)

Several changes have been made to the Routine Uses of Records consisting of the following:

Routine use 1 has been continued in this single SORN from the previous three SORNs (36VA00; 46VA00; and 53VA00) to permit disclosure of information from the record of an individual in response to inquiry from a Congressional office made on behalf of the individual.

Routine use 2 has been added to permit disclosure of information to the National Archives and Records Administration (NARA) and the General Services Administration (GSA) relative to inspection conducted under title 44 U.S.C. NARA and GSA are responsible for the proper disposition and archiving of Federal records that are no longer active but may be appropriate for preservation. VA must be permitted to share information with NARA in order for NARA and GSA to perform these statutorily created functions.

Routine use 3 permits records disclosure to the U.S. Department of Justice (DoJ). When VA is involved in litigation or an adjudicative or administrative agency process and VA policies or operations may be affected by the outcome of the litigation or process, VA must be able to disclose pertinent information to the court, adjudicative or administrative bodies or parties involved. This routine use does not constitute authority to disclose records in response to a grand jury or other subpoena under the Privacy Act. This routine use is an expansion of routine use number 13 from the existing 36VA00.

Routine use number 4 permits disclosure of information to individuals, agencies, organizations, or entities from whom VA requires the services of a contractor or subcontractor to perform under the contractual agreement with VA as is deemed practicable under the laws administered by VA.

Routine use number 5 represents a consolidation of the existing routine uses number 6, 7, and 8 from the existing 36VA00 and number 2 of the existing 53VA00. This use permits VA, based on its own initiative, relative to a suspected or reasonably imminent violation of a law, to disclose information to the Federal, State, local, Tribal, or foreign agency charged with enforcing or implementing such law, rule or order. This use permits disclosure of the name and address of the veteran or member of the uniformed services, upon written request for such, when relevant to the suspected or reasonably imminent violation of laws involving public health or safety, to the agency with the responsibility of maintaining compliance with such laws.

Routine use number 6 has been included to permit disclosure to other Federal agencies to assist the agencies in preventing and detecting fraud or abuse by persons in their operations or programs.

Routine use number 7 has been added to permit disclosure of information to agencies, entities, or persons responsible for preventing, minimizing, responding to, or establishing remedies when VA suspects or has confirmed that the integrity or confidentiality of information in the system of records has been compromised or there is the risk of harm to an individual, including harm affecting their reputation, economic status, security, and confidentiality, or harm affecting another agency or entity which relies on the information in this system of records or other systems or programs.

Routine use number 8 was formerly recorded as routine use number 2 under both the existing 36VA00 and the existing 46VA00 and has been incorporated to permit disclosure of information to a Federal agency to the extent necessary for the agency to render decisions involving hiring, retention or transfer of an employee; issuance of a security clearance, letting of a contract, or the issuance or continuance of a license, grant or other benefit given by the agency. Written consent by the veteran must be provided for disclosures to the U.S. Postal Service based on an agreement with the U.S. Postal Service.

Routine use number 9 was formerly recorded as routine use number 3 under the existing 36VA00 and the existing 46VA00 and has been incorporated to permit disclosure of information to a State or local agency to the extent necessary for the agency to render decisions involving hiring, retention or transfer of an employee; issuance of a security clearance, letting of a contract, or the issuance or continuance of a license, grant or other benefit given by the agency. The name and address of the veteran or member of the uniformed services will not be disclosed unless the name and address is provided first by the requesting State or local agency.

Routine use number 10 was formerly recorded as routine use number 4 under the existing 36VA00 and has been incorporated to permit disclosure to a Federal, State, or local agency maintaining civil or criminal violation records or other pertinent information regarding an individual's background in order for VA to render a decision regarding hiring, transfer or retention of an employee, the letting of a contract, the granting of a security clearance, or the issuance of a grant or other benefit.

Routine use number 11 was formerly recorded as routine use number 5 under the existing 36VA00 and number 4 under the existing 46VA00 and has been incorporated to permit VA to disclose to a Federal agency, information other than the name and address of the veteran or member of the uniformed services (unless required by the receiving Federal agency) in order for VA to obtain information relevant to issuance of title 38 U.S.C. benefits.

Routine use number 12 was formerly recorded as routine use number 9 under the existing 36VA00 and has been incorporated to permit disclosure of information to nonprofit organizations where such information is related to programs and utilization of benefits under title 38 U.S.C., and includes computerized lists of names and addresses of veterans or members of the uniformed services, but not beneficiary designation related information.

Routine use number 13 was formerly recorded as routine use number 10 under the existing 36VA00 and routine use number 6 under the existing 53VA00 and has been incorporated to permit disclosure of insurance contract information upon the veteran's or uniformed services member's request, not including medical or beneficiary related information, to the veteran's or uniformed services member's legal representative in order to assist a veteran's or uniformed services member's legal representative in prosecution of a claim under the laws administered by VA.

Routine use number 14 was formerly recorded as routine use number 11 under the existing 36VA00 and has been incorporated to permit disclosure of information to the Treasury Department in order for the Treasury Department to process payment related activities. Additional language has been added consisting of “insurance account information of an insured veteran or member of the uniformed services” and “perform check tracer activities for the veteran or member of the uniformed services, beneficiary(ies), legal representative or designated payee(s)” to reflect activities and terms commonly used in the payment process.

Routine use number 15 was formerly recorded as routine use number 12 under the existing 36VA00 and has been incorporated to permit disclosure of information to the Internal Revenue Service (IRS) when it is required for the IRS to collect tax liens.

Routine use number 16 was formerly recorded as routine use number 14 under the existing 36VA00 and has been incorporated to permit disclosure of identifying information for members of the uniformed services and veterans, including personal information about their military service, medical status, beneficiary(ies) and dependent(s), to the Office of Servicemembers' Group Life Insurance (OSGLI) in order for OSGLI to provide government life insurance coverage under the Servicemembers' Group Life Insurance (SGLI) and Veterans' Group Life Insurance (VGLI) programs. This routine use has been edited to reflect that disclosure of information about members of the uniformed services and veterans is currently used by OSGLI in the administration of the related programs of insurance based on OSGLI's contractual relationship with VA.

Routine use number 17 was formerly recorded as routine use number 15 under the existing 36VA00 and has been incorporated to permit disclosure of information to the Department of Defense and the uniformed services in order to establish and maintain allotments from active and retired service pay for VA insurance premiums and loan repayments.

Routine use number 18 was formerly recorded as routine use number 16 under the existing 36VA00 and has been incorporated to permit disclosure of policy and loan values and the name and address of the veteran or member of the uniformed services to Federal, State, and local agencies in order for the agency to render a decision regarding the veteran's or uniformed services member's entitlement to Medicaid, Medicare, nursing home admittance, and welfare benefits. Additional language has been added stating “or other benefits provided by the requesting agency” in order to be more inclusive and encompassing with regards to benefits beyond Medicaid, Medicare, nursing home admittance, and welfare provided by the agency to which the veteran or member of the uniformed services may be entitled.

Routine use number 19 was formerly recorded as routine use number 17 under the existing 36VA00 and has been incorporated to permit disclosure of the name, address, and military service information of the veteran or member of the uniformed services to the Armed Forces Institute of Pathology (AFIP) for official research purposes.

Routine use number 20 was formerly recorded as routine use number 18 under the existing 36VA00 and has been incorporated to permit disclosure of the name(s) and address(es) of a veteran or member of the uniformed services to another Federal agency or contractor of that agency for the purposes of government research based on the statutory purpose of such agency.

Routine use number 21 was formerly recorded as routine use number 19 under the existing 36VA00 and number 6 under the existing 46VA00 and has been incorporated to permit disclosure of any information in the system, including information related to financial obligations, to a debtor's employing agency or commanding officer for the purpose of debt collection and debtor-employee counseling.

Routine use number 22 was formerly recorded as routine use number 20 under the existing 36VA00 and number 7 under the existing 46VA00 and has been incorporated to permit disclosure of information regarding the veteran's or uniformed services member's indebtedness to the United States based on participation in VA benefit programs to another Federal agency, a State agency, or a State probate court in order to obtain current address, locator, and credit report assistance in the collection of unpaid financial obligations owed to the United States.

Routine use number 23 was formerly recorded as routine use number 21 under the existing 36VA00 and routine use number 8 under the existing 46VA00 and has been incorporated to permit disclosure of information to a third party, but not a consumer protection agency, regarding the veteran's or uniformed services member's indebtedness to the United States based on participation in a VA benefits program, in order to help VA collect debts due and initiate legal action due to fraud in obtaining title 38 benefits.

Routine use number 24 was formerly recorded as routine use number 22 under the existing 36VA00 and has been incorporated to permit disclosure of the name and address of the veteran or member of the uniformed services, and other information which is reasonably necessary to identify the veteran or member of the uniformed services, including information concerning the veteran's or uniformed services member's indebtedness to the United States based on participation in VA benefit programs, to consumer reporting agencies in order to assist in collection of the indebtedness.

Routine use number 25 was formerly recorded as routine use number 23 under the existing 36VA00 and has been incorporated to permit disclosure of information to the legal representative of incompetent veterans or members of the uniformed services in order to advise the legal representative relative to actions required to properly perform his/her duty. Additional language has been added to include “court-appointed guardians/conservators, Powers of Attorney, or military trustees” and the term “VA Federal fiduciaries” has been changed to “VA fiduciaries” to reflect the types of representatives who may receive information.

Routine use number 26 is being inserted to replace routine use numbers 24 and 25 under the existing 36VA00 and has been incorporated to permit disclosure of information involving the presentation of evidence in or to a court, magistrate, administrative tribunal, or grand jury, including disclosures to opposing counsel in the course of such proceeding or settlement negotiations. In order to avoid the controversies presented by cases such as Doe v. DiGenova, 779 F.2d 74 (DC Cir. 1985) and Doe v. Stephens, 851 F.2d 1457 (DC Cir. 1988) regarding disclosure of information under the Privacy Act in response to subpoenas, this routine use was added to permit disclosure in response to grand jury proceedings but omitting the “subpoena” related language reference in 36VA00.

Routine use number 27 was formerly recorded as routine use number 26 under the existing 36VA00 and has been incorporated to permit disclosure of information to Federal, State, country, and municipal agencies for the purpose of conducting computer matches to validate a veteran's or uniformed services member's entitlement to insurance benefits under title 38 U.S.C. The name and address of the veteran or member of the uniformed services may be disclosed if required by the Federal agency in order to respond to VA.

The Policies and Practices for Storing, Accessing, Retaining, and Disposing of Records in the System section is amended to more accurately reflect terminology and changes in technology used by the VA Insurance Program. The Insurance Program has evolved from a paper-based environment to a largely paperless one. Records and information are primarily stored electronically in two storage and retrieval systems, called the Veterans Insurance Claims Tracking and Response System (VICTARS), and the Insurance Terminal System (ITS), which are maintained as part of the VA Insurance Program's local area network (LAN).

VICTARS utilizes imaging and electronic technology to store paper documents and store information from the Disability Outreach Tracking Services (DOTS), and Web site self-service activities, including “Autoform” S-DVI applications.

The Insurance Terminal System (ITS) provides direct access to insurance records relative to claims processing via computer monitors. This amendment explains that both VICTARS and ITS store and retrieve all information in the insurance records system through the LAN maintained through the VA Information Technology Center (VA ITC) at the Philadelphia VA Regional Office and Insurance Center.

The amendment also reflects changes involving the phone system used by the VA Insurance Program to include a computerized phone system called “Freedom Enterprise” which creates recordings of incoming phone calls related to insurance policies for quality assurance and training purposes only. This system stores the call as part of the LAN maintained through the VA ITC.

The amendment notes that back-up VA insurance computer records are stored by Iron Mountain Off-Site Data in a secured area. (The complete address is provided in Appendix 1 at the end of this document.)

Inactive records are also no longer stored on magnetic tape, and reference to such has been removed in this amended system of records.

The Retrievability section is amended to reflect how records are retrieved in these new computerized storage media using the VA insurance file number, VA file number, policyholder's name, social security number, date of birth, personal identification numbers (PINs), and passwords.

The Safeguards section in the system of records is amended to include changes involving the fact that automated records which are not in use by the ITC are now stored in locked secured areas at Iron Mountain Off-Site Data Center. (The address of the facility is provided in the SORN in Appendix I.)

The amendment reflects that access to the VA ITC and the Collections Unit (the payment processing unit) is restricted to authorized personnel with approved electronically coded access cards. All other persons gaining access to computer rooms and the Collections Unit are escorted by an individual with authorized access.

This amendment reflects that Physical Security and System Security at the Philadelphia VA Regional Office and Insurance Center for computerized storage systems, including VICTARS, ITS, Freedom Enterprise, and the VA ITC is protected by password access, magnetic access card readers, and audible alarms in designated areas. Electronic keyboard locks are activated upon security errors. Video surveillance is also provided in secured processing and computer protected areas, such as Claims, Collections, and VA ITC. Approved encryption technology is included in the amendment to reflect new system security procedures.

Changes involving the main computer site area are included to note the end of the Benefits Delivery Network terminology and the use of the new centralized computer center called the VA Information Technology Center (VA ITC). VA ITC's practices of identifying computerized tapes and disks containing data is enforced using automated labeling techniques. Access to computer programs is now controlled at the Operations level only, and no longer involves Auditing or Programming personnel.

The Retention and Disposal sections are amended to make distinctions between remaining hardcopy records and imaged/computerized records. Hardcopy records are retained and disposed of in accordance with disposition authorization approved by the Archivist of the United States. VICTARS, the primary records storage and retrieval system for the Insurance Program, maintains imaged insurance records indefinitely, which has resulted in removal of the need for reference to periods of storage for inactive records, specifically the 36-month and 50-year Federal Archive and Records reference in the previous SORN 36VA00 and the reference to Veterans' Mortgage Life Insurance (VMLI) closed and inactive files noted in SORN 53VA00.

Additional changes in this section include the following: Hardcopy records imaged into VICTARS are stored for 31 days prior to destruction. Beneficiary designation forms are imaged and the hardcopy originals are stored indefinitely at the NARA Mid Atlantic Region Center. (The address of the facility is provided in Appendix I of the SORN.) Computerized records accessible through ITS are maintained indefinitely though the LAN. Back-up VA ITC archive records are stored on tape for 1 year prior to being erased or written over. Records in the “Freedom Enterprise” system which records incoming phone calls regarding insurance policies are maintained for 1 year and are purged 13 months after the call.

The System Manager(s) and Address sections have been amended to provide the complete mailing address of: Director (00), VA Regional Office and Insurance Center, 5000 Wissahickon Avenue, P.O. Box 8079, Philadelphia, PA 19101.

The Notification Procedure section is amended to reflect a direct number for the Director's staff relative to inquiries about the records. The number provided is (215) 381-3029. Reference to the St. Paul, Minnesota, office for records requests has been removed because the St. Paul Insurance Center is no longer in operation and all records from that office have been consolidated into the records maintained by the Philadelphia Insurance office.

Language from 36VA00, 46VA00, and 53VA00 has been combined and incorporated relative to the information needed to complete the records inquiry request.

Also the reference to submission of VMLI lending and mortgage information noted in SORN 53VA00 has been omitted because the VMLI records are identified using the same indicators used to identify other Insurance program records.

Record Access Procedures now provides the complete mailing address of the Philadelphia VA Regional Office and Insurance Center to individuals desiring access to, and contesting of, VA records. The section also requested written notice for records access and provides language noting that “and related procedures” can be part of the inquiry.

The Record Source Categories has been amended to reflect inclusion of Westlaw, InfoUSA, and the Inquiry Routing & Information System (IRIS) as sources of information used in this record system. Notation that IRIS is maintained by the Office of Information Technology (005) and is governed under the system of records entitled “Information Routing & Information System (IRIS)—VA” (151VA005N) has been added.

Interested persons are invited to submit written comments, suggestions, or objections regarding the proposed amended routine use statement to the Director, Office of Regulations Management (02D), Department of Veterans Affairs, 810 Vermont Ave., NW., Washington, DC 20420. All relevant material received within November 22, 2010 will be considered. All written comments received will be available for public inspection at the above address in the Office of Regulations Management, Room 1068, between the hours of 8:30 a.m. and 4:30 p.m., Monday through Friday, except holidays.

If no public comment is received during the 30-day review period allowed for public comment, or otherwise published in the Federal Register by VA, the new routine use is effective November 22, 2010.

Approved: September 1, 2010.
John R. Gingrich,
Chief of Staff, Department of Veterans Affairs.

36VA29

SYSTEM NAME:

“Veterans and Uniformed Services Personnel Programs of U.S. Government Life Insurance—VA”

SYSTEM LOCATION:

VA Insurance records are maintained as follows:

Active Insurance records are located at the VA Regional Office and Insurance Center (VAROIC) in Philadelphia, Pennsylvania. (The complete address is available in Appendix 1 at the end of this document.)

Inactive Insurance records are located at the VA Regional Office and Insurance Center (VAROIC) in Philadelphia, Pennsylvania. (The complete address is available in Appendix 1 at the end of this document.) In addition, inactive records are stored at various servicing Federal archives and records centers in Northeast Philadelphia, Pennsylvania; Miamisburg, Ohio; Lee's Summit, Missouri; Lenexa, Kansas; Chicago, Illinois; and Pittsfield, Massachusetts. (The complete addresses are available in Appendix 1 at the end of this document.)

Some pre-1968 records pertaining to beneficiaries of deceased veterans are located in local VA regional offices in VA claim folders.

Insurance file numbers, policies numbers, and folder locations are available to all VA regional offices through VETSNET.

Back-up computerized insurance records and automated data maintained by the VA Information Technology Center (VA ITC), the primary computer processing center, is stored by Iron Mountain Off-Site Data in Itasca, Illinois. (The complete address is available in Appendix 1 at the end of this document.)

Records for the supervised programs of government insurance are maintained by the Office of Servicemembers' Group Life Insurance (OSGLI) in Roseland, New Jersey. (The complete address is available in Appendix 1 at the end of this document.)

CATEGORIES OF INDIVIDUALS COVERED BY THE SYSTEM:

The following categories of individuals will be covered by this system:

1. Veterans (not including dependents) and members of the uniformed services (including dependents) who have applied for and/or have been issued government life insurance.

2. Beneficiaries of government life insurance entitled to or in receipt of insurance proceeds.

3. Attorneys drawing fees for aiding in settlement of VA insurance claims.

The individuals noted above are covered by this system based on applications, claims, and notices of eligibility for the following government life insurance programs provided in 38 U.S.C. Chapters 19 and 21:

(1) U.S. Government Life Insurance (USGLI) under Section 1942.

(2) National Service Life Insurance (NSLI) under Section 1904.

(3) Veterans' Special Life Insurance (VSLI) under Section 1923.

(4) Veterans' Reopened Insurance (VRI) under Section 1925.

(5) Service-Disabled Veterans Insurance (S-DVI) under Section 1922 and 1922A.

(6) Veterans' Mortgage Life Insurance (VMLI) under Section 2106.

(7) Servicemembers' Group Life Insurance (SGLI), including Family Servicemembers' Group Life Insurance (FSGLI), Veterans' Group Life Insurance (VGLI), and Servicemembers' Group Life Insurance Traumatic Injury Protection (TSGLI) under Sections 1967 through 1980A.

CATEGORIES OF RECORDS IN THE SYSTEM:

Life insurance records (or information contained in records) may consist of:

1. Applications for insurance, including the name and address of the veteran or member of the uniformed services, e-mail address, phone number, correspondence to and from the veteran or member of the uniformed services or their legal representatives, date of birth, social security number, military service number, dates of service, military ranking, character of discharge, VA file number, plan or type of insurance, disability rating, medical information regarding disability and health history, method of payment, amount of insurance coverage requested, and bank routing and account numbers. Applications for Veterans' Mortgage Life Insurance (VMLI), including supporting mortgage documents, contain the address of the mortgaged property, name and address of the mortgagor, the mortgage account number, the rate of interest, the original amount of the mortgage, and the current amount of the mortgage, the monthly payment amount, the mortgage payment period, and VA Specially Adapted Grant Cards (which contain the veteran's or uniformed services member's name, address, dates of military service, branch of service, method of separation, whether the veteran or member of the uniformed services has VMLI, the name and address of the lender, the legal description and property address, improvements to such property, date applied for disability compensation, date of initial application submission, grant information, amount of the grant approved or whether the grant was denied or canceled).

2. Beneficiary and option designation information, including the names and addresses of principal and contingent beneficiaries, beneficiary social security number, share amount to each beneficiary, the method of payment, and the designated estate(s) and trust(s).

3. Insurance contract information, including: (a) Authorization of allotment payment; (b) authorization for deduction from VA benefit payments; (c) authorization for deduction from military retired pay; (d) authorization for deduction from employee payroll; (e) paid dividend information; (f) claims for disability or death payments; (g) cash value, policy loan, and lien information; (h) a listing of lapsed actions and unpaid insurance proceeds; (i) payment vouchers; (j) reinstatement information; (k) premium records status, and retired status of the policy; (l) court-martial orders; (m) copies of personal papers of the insured, including birth certificate, marriage license, divorce decree, citizen or naturalization papers, death certificate, adoption decree, and family support documents; (n) correspondence to and from the veteran, member of the uniformed services, legal representative and payee; (o) employment information; (p) returned check and check tracer information; (q) court documents; and (r) insurance death claims settlement information, including indebtedness, interest, and other credits.

4. Records of checks withheld from delivery to certain foreign countries.

5. Index of payees, including CO index cards and premium record cards.

6. Disability Outreach Tracking System (DOTS) records stored in the Veterans Insurance Claims Tracking and Response System (VICTARS) including the veteran's or uniformed services member's name, address, phone number, and disability status.

7. Policy information and access history from the VA Insurance Web site self-service-portal stored in VICTARS, which includes the name of the insured, file number, policy number, address, phone number, e-mail address, loan status, including loan amount requested, denied, or pending, the date of request for information, loan history, policy changes, dividend option changes, and Web site pages accessed.

8. Information from the VA Insurance Web site's “Autoform” program which provides access to veterans for completion of an application for Service-Disabled Veterans Insurance (S-DVI), which includes the veteran's name, address, social security number, date of birth, phone number, medical history, e-mail address, and beneficiary information, such as the beneficiary's name, address, and social security number.

9. Records of incoming calls recorded in the “Freedom Enterprise” system. These are recordings of incoming phone calls received by insurance personnel of the Veterans Insurance Phone Section (VIPS) from veterans, members of the uniformed services, beneficiaries, personal representatives, members of Congress and their staff, other interested parties, and stakeholders. (The recordings are maintained for quality assurance and training purposes only.)

AUTHORITY FOR MAINTENANCE OF THE SYSTEM:

Title 38, United States Code (U.S.C.), chapter 5, section 501, and chapter 3, including sections 303 and 315.

Title 38, U.S.C., chapter 19; chapter 21, section 2106; and chapter 77, sections 7721-7725.

Title 5 U.S.C. 552(a) and 5514.

PURPOSE(S):

VA gathers or creates these records in order to enable it to administer and supervise statutory government life insurance programs for veterans, members of the uniformed services, and their spouses, surviving spouses, dependents, and beneficiaries who apply for government life insurance benefits administered or supervised by the VA Insurance Program. See the statutory provisions cited in “Authority for maintenance of the system.”

ROUTINE USES OF RECORDS MAINTAINED IN THE SYSTEM, INCLUDING CATEGORIES OF USERS AND THE PURPOSES OF SUCH USES:

1. The record of an individual who is covered by a system of records may be disclosed to a Member of Congress, or a staff person acting for the Member, when the Member or staff person requests the record on behalf of and at the written request of the individual.

2. Disclosure may be made to the National Archives and Records Administration and the General Services Administration in records management inspections conducted under authority of title 44 U.S.C.

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities with whom VA has a contract or agreement or where there is a subcontract to perform such services as VA may deem practicable for the purposes of laws administered by VA, in order for the contractor or subcontractor to perform the services of the contract or agreement.

5. VA may disclose on its own initiative any information in the system, except the names and home addresses of veterans, members of the uniformed services, and their dependents, that is relevant to a suspected or reasonably imminent violation of the law whether civil, criminal, or regulatory in nature and whether arising by general or program statute or by regulation, rule, or order issued pursuant thereto, to a Federal, State, local, Tribal, or foreign agency charged with the responsibility of investigating or prosecuting such violation, or charged with enforcing or implementing the statute, regulation, rule, or order. VA may also disclose on its own initiative the names and addresses of veterans, members of the uniformed services, and their dependents to a Federal agency charged with the responsibility of investigating or prosecuting civil, criminal, or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

8. Any information in this system may be disclosed to a Federal agency, upon its official request, to the extent that it is relevant and necessary to that agency's decision regarding: The hiring, retention or transfer of an employee; the issuance of a security clearance, the letting of a contract, or the issuance or continuance of a license, grant or other benefit given by that agency. However, in accordance with an agreement with the U.S. Postal Service, disclosures to the U.S. Postal Service for decisions concerning the employment of veterans will only be made with the veteran's prior written consent.

9. Any information in this system may be disclosed to a State or local agency, upon its official request, to the extent that it is relevant and necessary to that agency's decision on: The hiring, transfer or retention of an employee, the issuance of a security clearance, the letting of a contract, or the issuance or continuance of a license, grant or other benefit by that agency; provided, that if the information pertains to a veteran or member of the uniformed services, the name and/or address of the veteran or member of the uniformed services will not be disclosed unless the name and address is provided first by the requesting State or local agency.

10. Any information in this system may be disclosed to a Federal, State or local agency maintaining civil or criminal violation records, or other pertinent information such as prior employment history, prior Federal employment background investigations, and personal or educational background at the request of the veteran or member of the uniformed services in order for VA to obtain information relevant to the hiring, transfer or retention of an employee, the letting of a contract, the granting of a security clearance, or the issuance of a grant or other benefit.

11. Any information in this system may be disclosed to a Federal agency, except for the name and address of a veteran or member of the uniformed services, in order for VA to obtain information relevant to the issuance of a benefit under title 38 U.S.C. The name and address of a veteran or member of the uniformed services may be disclosed to a Federal agency under this routine use if they are required by the Federal agency to respond to VA inquiry.

12. Except for beneficiary and option designations, any information in this system including the name and address of a veteran or member of the uniformed services may be disclosed to any nonprofit organization if the release is directly connected with the conduct of programs and the utilization of benefits under title 38 U.S.C. (such disclosures include computerized lists of names and addresses).

13. Except for medical information and beneficiary and option designations, any information including insurance contract information (e.g., name, address, status of the account, dividends paid, cash value, and policy loans) may be disclosed at the request of a veteran or member of the uniformed services to an attorney acting under a declaration of representation, a VA-approved claims agent, an insurance agency, a trust officer, or to employees or members of an accredited service organization, so that these individuals or organizations can aid veterans or members of the uniformed services in the preparation, presentation, prosecution of claims under the laws administered by VA. The name and address of a veteran or member of the uniformed services will not, however, be disclosed to these individuals under this routine use if the veteran or member of the uniformed services has not requested the assistance of an accredited service organization, claims agent, trust officer, or an attorney.

14. The name, address, insurance account information of an insured veteran or member of the uniformed services, their beneficiary(ies), legal representatives, or designated payee(s), and the amount of payment may be disclosed to the Treasury Department, upon its official request, in order for the Treasury Department to make payment of dividends, policy loans, cash surrenders, maturing endowments, insurance refunds, issue checks and perform check tracer activities for the veteran or member of the uniformed services, beneficiary(ies), legal representative or designated payee(s).

15. The name and address of an insured veteran or member of the uniformed services, date and amount of payments made to VA, including specific status of each policy (e.g., premiums paid in, dividends paid out, cash and loan values) may be disclosed to the Internal Revenue Service (IRS), upon its official request, in order for the IRS to collect tax liens by withholding insurance payments to satisfy unpaid taxes. This purpose is consistent with title 26 of the United States Code, section 7602.

16. The name, address, social security number, date of discharge from the military, medical information concerning the grounds for total disability or the nature of an injury or illness, and dependency or beneficiary related information of a member of the uniformed services or veteran may be disclosed to the Office of Servicemembers' Group Life Insurance (OSGLI) at the request of a member of the uniformed services or veteran in order to aid OSGLI in the verification of such information for the purpose of issuance and maintenance of insurance policies provided to members of the uniformed services or veterans participating in the Servicemembers' Group Life Insurance (SGLI) program and/or Veterans' Group Life Insurance (VGLI) program and to pay insurance benefits under these programs.

17. The name, address, and other identifying information such as a social security number or a military service number may be disclosed to the Department of Defense (Army, Air Force, Navy, Marine Corps); the Coast Guard of the Department of Homeland Security; the Commissioned Officers Corps of the U.S. Public Health Service; and the Commissioned Officers Corps of the National Oceanic and Atmospheric Administration (NOAA) of the Department of Commerce; this disclosure may be made upon their official request, for use in order for these departments to establish and maintain allotments from active and retired service pay for VA insurance premiums and loan repayments.

18. The face amount and cash and/or loan value of an insurance policy, verification of an existing insurance policy, and the name and address of an insured veteran or member of the uniformed services may be disclosed at the request of the veteran or member of the uniformed services to a Federal, State, or local agency, in order for these agencies to assist a veteran or member of the uniformed services applying for Medicaid, Medicare, nursing home admittance, welfare benefits, or other benefits provided by the requesting agency to the extent that the information is relevant and necessary to the agency's decision regarding benefits.

19. The name and address of a veteran or member of the uniformed services and military service information (e.g., dates of service, branch of service) may be disclosed to the Armed Forces Institute of Pathology (AFIP), upon its official request, in order for the AFIP to conduct research for specified official purposes.

20. The name(s) and address(es) of a veteran or member of the uniformed services may be disclosed to another Federal agency or to a contractor of that agency, at the written request of the head of that agency or designee of the head of that agency for the purpose of conducting government research necessary to accomplish a statutory purpose of that agency.

21. Any information in this system, including the nature and amount of a financial obligation, may be disclosed to a debtor's employing agency or commanding officer, upon its official request, as a routine use in order to assist VA in the collection of unpaid financial obligations owed to VA so that the debtor-employee may be counseled by his or her Federal employer or commanding officer. This purpose is consistent with 5 U.S.C. 5514, 31 U.S.C. 3701-3702, and 3711-3718.

22. Any information in this system, including available identifying data regarding the debtor, such as the name of the debtor, last known address of the debtor, name of the debtor's spouse, social security account number of the debtor, VA insurance number, VA loan number, VA file number, place of birth and date of birth of the debtor, name and address of the debtor's employer or firm and dates of employment, may be disclosed to other Federal agencies, State probate courts, State drivers license bureaus, and State automobile title and license bureaus as a routine use in order to obtain current address, locator and credit report assistance in the collection of unpaid financial obligations owed the United States. This purpose is consistent with the Federal Claims Collection Act of 1966 (Pub. L. 89-508) and subsequent amendments, and 31 United States Codes 3701-3702 and 3711-3718.

23. Any information concerning the veteran's or uniformed services member's indebtedness to the United States by virtue of a person's participation in a benefits program administered by VA, including personal information obtained from other Federal agencies through computer matching programs, may be disclosed to any third party, except consumer reporting agencies, in connection with any proceeding for the collection of an amount owed to the United States. Purposes of these disclosures may be to (a) assist VA in collection of title 38 benefit overpayments, overdue indebtedness, and or costs of services provided individuals not entitled to such services, and (b) initiate legal actions for prosecuting individuals who willfully or fraudulently obtain title 38 benefits without entitlement. This disclosure is consistent with 31 U.S.C. 3701-3702, 3711-3718; and 38 U.S.C. 5701(b)(6).

24. The name and address of a veteran or member of the uniformed services, other information as is reasonably necessary to identify such veteran or member of the uniformed services, including personal information obtained from other Federal agencies through computer matching programs, and any information concerning the veteran's or uniformed services member's indebtedness to the United States by virtue of the person's participation in a benefits program administered by VA may be disclosed to a consumer reporting agency for purposes of assisting in the collection of such indebtedness, provided that the provisions of 31 U.S.C. 3701-3702 and 3711-3718 and 38 U.S.C 5701(g)(4) have been met.

25. Any information in this system such as notice of renewal, reinstatement, premium due, lapse actions, miscellaneous insurance instructions, disposition of dividends, policy loans, and transfer of records may be disclosed to VA fiduciaries, court-appointed guardians/conservators, powers of attorney, or military trustees of incompetent veterans or members of the uniformed services in order to advise VA fiduciaries, court-appointed guardians/conservators, powers of attorney, or military trustees of current actions to be taken in connection with ownership of U.S. government life insurance policies and to enable them to properly perform their duties as fiduciaries or guardians, powers of attorney, or military trustees.

26. Any information in this system of records may be disclosed, in the course of presenting evidence in or to a court, magistrate, administrative tribunal, or grand jury, including disclosures to opposing counsel in the course of such proceedings or in settlement negotiations.

27. Identifying information, except for the name and address of a veteran or member of the uniformed services, may be disclosed to a Federal, State, County or Municipal agency for the purpose of conducting computer matches to obtain information to validate the entitlement of a veteran or member of the uniformed services who is receiving or has received government insurance benefits under title 38 of the United States Code. The name and address of a veteran or member of the uniformed services may also be disclosed to a Federal agency under this routine use if they are required by the Federal agency to respond to the VA inquiry.

POLICIES AND PRACTICES FOR STORING, RETRIEVING, ACCESSSING, RETAINING, AND DISPOSING OF RECORDS IN THE SYSTEM:

STORAGE:

Records are stored in two computerized systems called Veterans Insurance Claims Tracking and Response System (VICTARS), and the Insurance Terminal System (ITS). VICTARS utilizes imaging and electronic technology to store paper documents, including applications and correspondence, and it records all processing related activities involving insurance policies, disability outreach services, and Web site self-service and “Autoform” access.

The Insurance Terminal System (ITS) provides direct access to insurance records relative to claims processing via computer monitors. Both VICTARS and ITS store and retrieve all information in the insurance records system through the local area network (LAN) maintained through the VA Information Technology Center (VA ITC) at the Philadelphia VA Regional Office and Insurance Center.

“Freedom Enterprise” creates recordings of incoming phone calls received by insurance personnel regarding insurance policy related issues and stores the call as part of the LAN maintained through the VA ITC.

Back-up VA insurance records are stored by Iron Mountain Off-Site Data in a secured area. (The complete address is provided in Appendix 1 at the end of this document.)

Inactive records are also stored on microfilm, microfiche, disks, Central Office (CO) index cards, premium record cards in hardcopy folders, on computer lists, and on punch cards, which are kept in locked files and secured areas.

RETRIEVABILITY:

All hardcopy and electronically stored insurance records are retrievable by the government insurance file number, VA file number, policyholder's name, social security number, or date of birth.

Information input through the VA Insurance Web site's self-service portal relative to loan applications is retrievable by the use of unique personal identification numbers (PINs), passwords, and an insurance file number. Approved encryption technology is used to protect personal information.

Incomplete Service-Disabled Veterans Insurance (S-DVI) applications are retrievable on the VA Insurance Web site through the “Autoform” program with the use of a personal password, social security number, and date of birth of the veteran. (The completed S-DVI application becomes part of the VICTARS storage system.) Approved encryption technology is used to protect personal information.

The “Interactive Voice Response (IVR)” system permits veterans to access audible information about their insurance records which is stored by the VA Insurance Program's LAN via touch-tone telephone technology utilizing the VA Insurance file number.

SAFEGUARDS:

1. PHYSICAL SECURITY:

a. All VA facilities are protected by the Federal Protective Service or other security personnel. All Insurance files and processing areas are restricted to authorized personnel on a need-to-know basis. Areas containing paper and computerized records are protected by a sprinkler system. Paper records pertaining to employees and public figures, or otherwise sensitive files, are stored in locked files. Microfilm records and computerized disk (CD) back-up files of Collections (the payment processing unit) activities are stored in locked, fireproof, humidity-controlled vaults at the VA Regional Office and Insurance Center. Automated records which are not in use by the VA ITC are stored in locked, secured areas at Iron Mountain Off-Site Data Center. (The complete address of the facility is available in Appendix 1 at the end of this document.)

b. Access to the VA ITC and Collections (the payment processing unit) is restricted to VA ITC and Collections employees, custodial personnel, and Federal Protective Service or other security personnel. Access to VA ITC and Collections is restricted to authorized personnel and is secured by electronic locking devices. All other persons gaining access to computer rooms and the Collections Unit are escorted by an individual with authorized access.

c. Access to insurance records at the Philadelphia VA Regional Office and Insurance Center through computerized storage systems, including VICTARS, ITS, “Freedom Enterprise”, and the VA ITC is protected by password access, magnetic access card readers, and audible alarms. Electronic keyboard locks are activated upon security errors. Video surveillance is also provided in secured processing and computer protected areas, such as Claims, Collections, and VA ITC. An Information Security Officer is assigned responsibility for privacy-security measures, including review of violations logs and local control and distribution of passwords.

2. SYSTEM SECURITY:

a. In the VA ITC, identification of computerized tapes and disks containing data is enforced using automated labeling techniques. Access to computer programs is controlled at the Operations level.

b. The Veterans Insurance Claims Tracking and Response System (VICTARS), the Insurance Terminal System (ITS), and “Freedom Enterprise” utilizes the VA Insurance Program's LAN as the storage and retrieval conduit which provides automated recognition of authorized users and their respective access levels and restrictions through the use of passwords. Passwords are changed periodically and are restricted to authorized individuals on a need-to-know basis for system access or security purposes.

c. Back-up insurance records and VA ITC data records are stored in a secured site by Iron Mountain Off-Site Data. (The address of the facility is listed in Appendix 1 at the end of this document.)

d. The VA Insurance Web site self-service pages, including its “Autoform” application, which is used by veterans, their legal representatives, and payees is only accessible with the use of personal identifiers consisting of personal identification numbers (PINs), passwords, file numbers, loan numbers, social security number, and date of birth. The access portals utilize LAN based encryption technology and firewalls to protect personal data.

e. The “Interactive Voice Response” (IVR) system, which is protected as part of the VA Insurance Program's LAN, permits veterans to listen to information from their insurance records via touch-tone telephone technology which utilizes the VA Insurance file number to access the record.

f. Data exchange by e-mail within the agency or between other Federal agencies is done by means of dedicated communication lines utilizing approved encryption technology.

RETENTION AND DISPOSAL:

Hardcopy records are retained and disposed of in accordance with disposition authorization approved by the Archivist of the United States.

VICTARS, the primary records storage and retrieval system for the Insurance Program maintains imaged insurance records indefinitely through the VA Insurance Program's LAN. Hardcopy records imaged into VICTARS are stored for 31 days prior to destruction. Original copies of imaged beneficiary designation documents are stored indefinitely at the NARA Mid Atlantic Regional Center. (The complete address is provided in Appendix I at the end of this document.) Computerized records accessible through ITS are also maintained indefinitely through the VA Insurance Program's LAN.

Back-up VA ITC archive records are stored on tape for 1 year prior to being erased or written over.

Records in the “Freedom Enterprise” system which records incoming phone calls regarding insurance policies are maintained for 1 year and purged 13 months after the call.

SYSTEM MANAGER(S) AND ADDRESS:

Director (00), VA Regional Office and Insurance Center, 5000 Wissahickon Avenue, P.O. Box 8079, Philadelphia, PA 19101.

NOTIFICATION PROCEDURES:

Any individual who wishes to determine whether a record is being maintained in this system under his or her name or other personal identifier, or who wants to determine the contents of such record, or has a routine inquiry concerning the status of his or her insurance under this system may contact the VA Regional Office and Insurance Center in Philadelphia, Pennsylvania at (215) 381-3029. Requests concerning the specific content of a record must be made in writing or made in person to the VA Regional Office and Insurance Center in Philadelphia, Pennsylvania. The inquirer should provide the full name of the veteran or member of the uniformed services, their insurance file number or VA claim number or social security number, the date of birth of the veteran or member of the uniformed services, and reasonably identify the benefit or system of records involved. If the insurance file number or any of the other identifiers noted above are not available, the service number, and/or location of insurance records that will aid VA personnel in locating the official insurance records should be provided. (Address locations of records storage facilities for this system are listed in Appendix 1 at the end of this document.)

RECORD ACCESS PROCEDURE:

Individuals desiring access to, and contesting of, VA records and related procedures should write to the VA Regional Office and Insurance Center at 5000 Wissahickon Avenue, P.O. Box 8079, Philadelphia, Pennsylvania 19101.

CONTESTING RECORD PROCEDURES:

(See Records access procedures above.)

RECORD SOURCE CATEGORIES:

The veteran, member of the uniformed services, or someone acting on their behalf; the uniformed services, other Federal agencies, including the Department of Defense (DoD); Social Security Administration (SSA); U.S. Treasury Department; Office of Servicemembers' Group Life Insurance (OSGLI); State and local agencies; Federal, State, and local courts; VA records; VA and private physicians; VA and private medical facilities; accredited veterans service organizations and other organizations aiding veterans and members of the uniformed services; VA-approved claims agents; VA fiduciaries; court-appointed guardians/conservators, powers of attorney, and military trustees; financial institutions; beneficiaries; commercial insurance companies; undertakers; lending institutions holding a veteran's or uniformed services member's mortgage; VA Loan Guaranty records; contractors remodeling or enlarging or adding construction to existing homes; relatives and other interested persons; Westlaw and InfoUSA; Inquiry Routing & Information System (IRIS) (maintained under System of Records “151VA005N” by the Office of Information & Technology); and the general public.

Appendix I: Address Locations of VA Insurance Records Facilities

1. VA Regional Office and Insurance Center, 5000 Wissahickon Avenue, P.O. Box 8079, Philadelphia, PA 19101.

2. Iron Mountain Offsite Data, 1397 Glenlake Avenue, Ilasca, IL 60143.

3. NARA Mid Atlantic Region (Northeast Philadelphia), 14700 Townsend Road, Philadelphia, PA 19154.

4. NARA Great Lakes Region (Dayton Kingsridge), 8801 Kingsridge Drive, Miamisburg, OH 45458.

5. NARA Central Plains Region (Lee's Summit), 200 Space Center Drive, Lee's Summit, MO 64064.

6. NARA Central Plains Region (Lenexa), 17501 West 98th Street, Suite 31-50, Lenexa, KS 66219.

7. NARA Great Lakes Region (Chicago), 7358 South Pulaski Road, Chicago, IL 60629.

8. NARA Northeast Region (Pittsfield), 10 Conte Drive, Pittsfield, MA 01210.

9. Office of Servicemembers' Group Life Insurance, 80 Livingston Avenue, Roseland, NJ 07068.

[FR Doc. 2010-26491 Filed 10-21-10; 8:45 am]

BILLING CODE P